ENVIRONMENTAL PROTECTION AGENCY

40 CFR Part 80

[EPA-HQ-OAR-2020-0240; FRL-10017-21-OAR]

Final Anti-Backsliding Determination for Renewable Fuels and Air Quality

AGENCY: Environmental Protection Agency (EPA).

ACTION: Notice.

SUMMARY: The Environmental Protection Agency (EPA) has determined that no additional measures are necessary pursuant to Clean Air Act (CAA) section 211(v) to mitigate the adverse air quality impacts of the renewable fuel volumes required under CAA section 211(o).

DATES: January 15, 2021.

ADDRESSES: The EPA has established a docket for this action under Docket ID No. EPA-HQ-OAR-2020-0240. All documents in the docket are listed at the https://www.regulations.gov website. Although listed in the index, some information is not publicly available, e.g., CBI or other information whose disclosure is restricted by statute. Certain other material, such as copyrighted material, is not placed on the internet and will be publicly available only in hard copy form. Publicly available docket materials are available electronically through https://www.regulations.gov.

FOR FURTHER INFORMATION CONTACT: Rich Cook, Office of Transportation and Air Quality, Assessment and Standards Division, Environmental Protection Agency, 2000 Traverwood Drive, Ann Arbor, MI 48105; telephone number: 734-214-4827; email address: cook.rich@epa.gov.

SUPPLEMENTARY INFORMATION:

I. Background

CAA section 211(v) requires EPA to take two actions. First, EPA must complete “a study to determine whether the renewable fuel volumes required under [CAA section 211(o)] will adversely impact air quality as a result in changes of vehicle and engine emissions of air pollutants.” The study, commonly known as the “anti-backsliding study,” must include consideration of different blend levels, types of renewable fuels, and available vehicle technologies, as well as appropriate national, regional, and local air quality control measures. EPA has completed the required study, which is available in the docket for this action and at https://www.epa.gov/renewable-fuel-standard-program/anti-backsliding-determination-and-study.

Second, considering the results of the study, EPA must proceed down one of two paths: Either “promulgate fuel regulations to implement appropriate measures to mitigate, to the greatest extent achievable. . .any adverse impacts on air quality, as a result of the renewable volumes required by [Section 211]” or “make a determination that no such measures are necessary.”

EPA announced its proposed determination on June 8, 2020 (85 FR 35048) and invited public comment. The proposed determination is available in the docket for this action and at https://www.epa.gov/renewable-fuel-standard-program/anti-backsliding-determination-and-study.

II. Final Determination

After considering public comment, we determine, as proposed, that no additional appropriate fuel control measures are necessary to mitigate adverse air quality impacts of required renewable fuel volumes. More information on this determination can be found in the supporting document, which is available in the docket for this action and at https://www.epa.gov/renewable-fuel-standard-program/anti-backsliding-determination-and-study.

Dated: January 5, 2021.
Andrew Wheeler,
Administrator.

[FR Doc. 2021-00271 Filed 1-14-21; 8:45 am]

BILLING CODE 6560-50-P